DEPARTMENT OF AGRICULTURE

Submission for OMB Review; Comment Request

December 15, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: 7 CFR 1965-A, Servicing of Real Estate Security for Farmer Program Loans and Certain Note-Only Cases.

OMB Control Number: 0560-0158.

Summary of Collection: The Farm Service Agency's (FSA) Farm Loan Program (FLP) provides supervised credit in the form of loans to family farmers and ranchers to purchase land and finance agricultural production. Sections 331 and 335 of the Consolidated Farm and Rural Development Act, authorizes the Secretary of Agriculture to grant releases from personal liability where security property is transferred to approve applicants, grant partial releases and subordinations of mortgages, and provides servicing authority for real estate security.

Need and Use of the Information: FSA will collect information through the use of several forms, which on program will benefit recipient or loan borrower requesting action on security, which they own.

Description of Respondents: Farms; individuals or households; business or other for-profit.

Number of Respondents: 31,366.

Frequency of Responses: Reporting: On occasion.

Total Burden Hours: 13,964.

Title: Customer Service Comment Card.

OMB Control Number: 0560-0242.

Summary of Collection: Executive Order 12862 directs Federal agencies to change the way they do business, to reform their management practices, to provide service to the public that matches or exceeds the best service available in the private sector and implement customer service standards. FSA will collect information using the Customer Service Card. The Customer Service Card will allow customers to comment, either on-the-record or anonymously to FSA's Washington headquarters on the quality of service they receive with respect to FSA programs.

Need and Use of the Information: FSA will collect the name and location of the Service Center visited, date of visit, customer name and address and customer rating of several aspects of the service received. The collected information will be used to monitor customer satisfaction with FSA customer service, information, procedures, and facilities and to provide a means to improve customer service.

Description of Respondents: Individuals or households; farm.

Number of Respondents: 31,000.

Frequency of Responses: Reporting: Other (Ad Hoc).

Total Burden Hours: 2,583.

Rural Housing Service

Title: 7 CFR, part 1955-B Management of Property.

OMB Control Number: 0575-0110.

Summary of Collection: The Farm Service Agency (FSA) and the Rural Business Cooperative Service (RBS) programs are administered under the provisions of the Consolidated Farm and Rural Development Act (CONTACT), as amended. FSA Farm Loan Program (FLP) provides supervised credit in the form of loans to family farmers and ranchers to purchase land and finance agricultural production. The Rural Housing Service (RHS) provides credit in the form of Multi-Family Housing loans and Community Facility loans. The RBS program is designed to improve, develop or finance business industry and employment and improve the economic and environmental climate in rural communities. These agencies must collect information on real property taken into custody and chattel property in the agency's inventory.

Need and Use of the Information: Information is obtained from farmers, ranchers and rural residents and is submitted to the local FSA or Rural Development Office where it is used to track and monitor real and chattel property. This information is required to prevent losses to the Government when security property is abandoned or to comply with the provisions of the CONTACT and congressional intent of assuring that acquired properties are sold to beginning farmers.

Description of Respondents: Farms; business or other for-profit; individuals or households.

Number of Respondents: 20.

Frequency of Responses: Reporting: On occasion.

Total Burden Hours: 5.

Agricultural Marketing Service

Title: Livestock & Meat Market News.

OMB Control Number: 0581-0154.

Summary of Collection: The Agricultural Marketing Act of 1946 (7 U.S.C. 1621), Section 203(q), directs and authorizes the collection and dissemination of marketing information including adequate outlook information, on a market area basis, for the purpose of anticipating and meeting consumer requirements aiding in the maintenance of farm income and to bring about a balance between production and utilization. Livestock and Meat Market News provide a timely exchange of accurate and unbiased information on current marketing conditions (supply, demand, prices, trends, movement, and other information) affecting trade in livestock, meats, grain, and wool. Administered by the U.S. Department of Agriculture's Agricultural Marketing Service (AMS), this nationwide market news program is conducted in cooperation with 30 states departments of agriculture.

Need and Use of the Information: AMS will collect information on price, supply, and movement of livestock, meat carcasses, meat and pork cuts, and meat by-products. Several agencies, agricultural universities and college use the information collected to keep appraised of the current market conditions and movement of livestock and meat in the United States and to make short and long term market projections.

Description of Respondents: Business or other for-profit; State, Local or Tribal Government; Farms; Individuals or households.

Number of Respondents: 450.

Frequency of Responses: Reporting: Other (Daily).

Total Burden Hours: 7,020.

Sondra Blakey,
Departmental Information Collection Clearance Officer.

[FR Doc. 04-27910 Filed 12-20-04; 8:45 am]

BILLING CODE 3410-05-P